DEPARTMENT OF COMMERCE

International Trade Administration

[C-122-854]

Supercalendered Paper From Canada: Countervailing Duty Order

AGENCY: Enforcement and Compliance, International Trade Administration, Department of Commerce.

SUMMARY: Based on affirmative final determinations by the Department of Commerce (Department) and the International Trade Commission (ITC), the Department is issuing a countervailing duty order on supercalendered paper (SC paper) from Canada.

DATES: Effective Date: December 10, 2015.

FOR FURTHER INFORMATION CONTACT: Dana Mermelstein or Toby Vandall, AD/CVD Operations, Enforcement and Compliance, International Trade Administration, U.S. Department of Commerce, 14th Street and Constitution Avenue NW., Washington, DC 20230; telephone: (202) 482-1391 and (202) 482-1664, respectively.

SUPPLEMENTARY INFORMATION:

Background

On October 20, 2015, the Department published its final affirmative determination in the countervailing duty investigation of SC paper from Canada.¹ On December 3, 2015, the ITC notified the Department of its final determination pursuant to section 705(b)(1)(A)(i) of the Tariff Act of 1930, as amended (Act), that an industry in the United States is materially injured by reason of subsidized imports of subject merchandise from Canada.²

¹ See Supercalendered Paper From Canada: Final Affirmative Countervailing Duty Determination, 80 FR 63535 (October 20, 2015).

² See Supercalendered Paper from Canada (Investigation No. 701-TA-530 (Final), USITC Publication 4583, December 2015).

Scope of the Order

The product covered by this order is SC paper. For a complete description of the scope of the order, see Appendix 1 to this notice.

Countervailing Duty Order

In accordance with sections 705(b)(1)(A)(i) and 705(d) of the Act, the ITC has notified the Department of its final determination that the industry in the United States producing SC paper is materially injured by reason of subsidized imports of SC paper from Canada. Therefore, in accordance with section 705(c)(2) of the Act, we are publishing this countervailing duty order.

As a result of the ITC's final determination, in accordance with section 706(a) of the Act, the Department will direct U.S. Customs and Border Protection (CBP) to assess, upon further instruction by the Department, countervailing duties on unliquidated entries of SC paper from Canada entered, or withdrawn from warehouse, for consumption on or after August 3, 2015, the date on which the Department published its preliminary countervailing duty determination in the Federal Register,³ and before December 1, 2015, the date on which the Department instructed CBP to discontinue the suspension of liquidation in accordance with section 703(d) of the Act. Section 703(d) of the Act states that the suspension of liquidation pursuant to a preliminary determination may not remain in effect for more than four months. Therefore, entries of SC paper made on or after December 1, 2015, and prior to the date of publication of the ITC's final determination in the Federal Register are not liable for the assessment of countervailing duties due to the Department's discontinuation, effective December 1, 2015, of the suspension of liquidation.

³ See Supercalendered Paper From Canada: Preliminary Affirmative Countervailing Duty Determination, 80 FR 45951 (August 3, 2015).

Suspension of Liquidation

In accordance with section 706 of the Act, the Department will direct CBP to reinstitute the suspension of liquidation of SC paper from Canada, effective the date of publication of the ITC's notice of final determination in the Federal Register, and to assess, upon further instruction by the Department pursuant to section 706(a)(1) of the Act, countervailing duties for each entry of the subject merchandise in an amount based on the net countervailable subsidy rates for the subject merchandise. On or after the date of publication of the ITC's final injury determination in the Federal Register, CBP must require, at the same time as importers would normally deposit estimated duties on this merchandise, a cash deposit equal to the rates noted below:

Company | Subsidy rate (percent)
Port Hawkesbury Paper LP, 6879900 Canada Inc., Port Hawkesbury Investments Ltd., Port Hawkesbury Paper GP, Port Hawkesbury Paper Holdings Ltd., Port Hawkesbury Paper Inc., and Pacific West Commercial Corporation (collectively, Port Hawkesbury) | 20.18
Resolute FP Canada Inc., Fibrek General Partnership, Forest Products Mauricie LP, Produits Forestriers Petit-Paris Inc., and Société en Commandite Scierie Opitciwan (collectively, Resolute) | 17.87
All Others | 18.85

This notice constitutes the countervailing duty order with respect to SC paper from Canada pursuant to section 706(a) of the Act. Interested parties may contact the Department's Central Records Unit, Room B8024 of the main Commerce Building, for copies of an updated list of countervailing duty orders currently in effect.

This order is issued and published in accordance with section 706(a) of the Act and 19 CFR 351.211(b).

Dated: December 4, 2015.
Paul Piquado,
Assistant Secretary for Enforcement and Compliance.

Appendix 1

Scope of the Order

The merchandise covered by this order is supercalendered paper (SC paper). SC paper is uncoated paper that has undergone a calendering process in which the base sheet, made of pulp and filler (typically, but not limited to, clay, talc, or other mineral additive), is processed through a set of supercalenders, a supercalender, or a soft nip calender operation.¹

¹ Supercalendering and soft nip calendering processing, in conjunction with the mineral filler contained in the base paper, are performed to enhance the surface characteristics of the paper by imparting a smooth and glossy printing surface. Supercalendering and soft nip calendering also increase the density of the base paper.

The scope of this order covers all SC paper regardless of basis weight, brightness, opacity, smoothness, or grade, and whether in rolls or in sheets. Further, the scope covers all SC paper that meets the scope definition regardless of the type of pulp fiber or filler material used to produce the paper.

Specifically excluded from the scope are imports of paper printed with final content of printed text or graphics.

Subject merchandise primarily enters under Harmonized Tariff Schedule of the United States (HTSUS) subheading 4802.61.3035, but may also enter under subheadings 4802.61.3010, 4802.62.3000, 4802.62.6020, and 4802.69.3000. Although the HTSUS subheadings are provided for convenience and customs purposes, the written description of the scope of the order is dispositive.

[FR Doc. 2015-31196 Filed 12-9-15; 8:45 am]

BILLING CODE 3510-DS-P